NATIONAL INSTITUTE FOR LITERACY

National Institute for Literacy Advisory Board

AGENCY: National Institute for Literacy.

ACTION: Notice of open meeting with partially closed session (amended).

SUMMARY: On March 8, 2007, the Secretary published in the Federal Register a notice of open meeting with a partially closed session for National Institute for Literacy. This notice amends the March 8, 2007, notice by changing the meeting to a one-day only meeting. This amended notice is appearing in the Federal Register less than 15 days before the meeting due to scheduling difficulties within the Agency.

This notice sets forth the schedule and a summary of the agenda for an upcoming meeting of the National Institute for Literacy Advisory Board (Board). The notice also describes the functions of the Board. Notice of this meeting is required by section 10(a)(2) of the Federal Advisory Committee Act. This document is intended to notify the general public of their opportunity to attend the meeting. Individuals who will need accommodations for a disability in order to attend the meeting (e.g., interpreting services, assistive listening devices, or materials in alternative format) should notify Steve Langley at telephone number (202) 233-2043. We will attempt to meet requests for accommodations after this date but cannot guarantee their availability. The meeting site is accessible to individuals with disabilities.

Date and Time: Open session—March 28, 2007, from 8:30 a.m. to 5:30 p.m. Closed session—March 28, 2007, from 5:30 p.m. to 6 p.m.

ADDRESSES: The National Institute for Literacy, 1775 I Street, NW., Suite 730, Washington, DC 20006.

FOR FURTHER INFORMATION CONTACT: Steve Langley, National Institute for Literacy, 1775 I Street, NW., Suite 730, Washington, DC 20006; telephone number: (202) 233-2043; e-mail: slangley@nifl.gov.

SUPPLEMENTARY INFORMATION: The Board is established under section 242 of the Workforce Investment Act of 1998, Public Law 105-220 (20 U.S.C. 9252). The Board consists of ten individuals appointed by the President with the advice and consent of the Senate. The Board advises and makes recommendations to the Interagency Group that administers the Institute. The Interagency Group is composed of the Secretaries of Education, Labor, and Health and Human Services. The Interagency Group considers the Board's recommendations in planning the goals of the Institute and in implementing any programs to achieve those goals. Specifically, the Board performs the following functions: (a) Makes recommendations concerning the appointment of the Director and the staff of the Institute; (b) provides independent advice on operation of the Institute; and (c) receives reports from the Interagency Group and the Institute's Director. The National Institute for Literacy Advisory Board will meet March 28, 2007. On March 28, 2007 from 8:30 a.m. to 5:30 p.m. the Board will meet in open session to discuss strategic planning and the dissemination plan for the National Early Literacy Panel Report.

On March 28, 2007 from 5:30 p.m. to 6 p.m., the Board will meet in closed session to discuss personnel issues. This discussion will relate to the Institute's internal personnel practices, including consideration of the Director's performance and salary. The discussion is likely to disclose information of personal nature where disclosure would constitute a clearly unwarranted invasion of personnel privacy. The discussion must therefore be held in closed session under exemptions 2 and 6 of the Government in the Sunshine Act, 5 U.S.C. 552b(c)(2) and (6). A summary of the activities at the closed session and related matters that are informative to the public and consistent with the policy of 5 U.S.C. 552b will be available to the public within 14 days of the meeting.

Records are kept of all Advisory Board proceedings and are available for public inspection at the National Institute for Literacy, 1775 I Street, NW., Suite 730, Washington, DC 20006, from 8:30 a.m. to 5 p.m.

Dated: March 15, 2007.
Sandra L. Baxter,
Director.

[FR Doc. E7-5024 Filed 3-19-07; 8:45 am]

BILLING CODE 6055-01-P